DEPARTMENT OF TRANSPORTATION

Federal Aviation Administration

Advisory Circular (AC) 45-23B, Identification and Registration Marking

AGENCY: Federal Aviation Administration (FAA), DOT.

ACTION: Notice of availability.

SUMMARY: This notice announces the availability of AC 45-2B, Identification and Registration Marking. AC 45-2B provides information and guidance concerning the requirements for identifying aircraft and related products with identification plates, and identifying aircraft with nationality and registration marks. The requirements are detailed in Title 14, Code of Federal Regulations (14 CFR), part 45, Identification and Registration Marking.

ADDRESSES: Copies of AC 45-2B can be obtained from the following: U.S. Department of Transportation, Subsequent Distribution Office, Ardmore East Business Center, 3341 Q 7th Ave., Landover, MD 20785.

Issued in Washington, DC, on July 16, 2003.
Frank P. Paskiewicz,
Manager, Production and Airworthiness Division, AIR-200.

[FR Doc. 03-19164 Filed 7-25-03; 8:45 am]

BILLING CODE 4910-13-M